FEDERAL TRADE COMMISSION

16 CFR Part 305

RIN 3084-AB03

EnergyGuide Labels on Televisions

AGENCY: Federal Trade Commission.

ACTION: Final rule.

SUMMARY: The Federal Trade Commission (“Commission”) amends its Energy Labeling Rule (“Rule”) by publishing new ranges of comparability for required EnergyGuide labels on televisions.

DATES: Effective July 15, 2015.

FOR FURTHER INFORMATION CONTACT: Hampton Newsome, Attorney, Division of Enforcement, Federal Trade Commission, Washington, DC 20580 (202-326-2889).

SUPPLEMENTARY INFORMATION:

I. Background

The Commission issued the Energy Labeling Rule in 1979, 44 FR 66466 (Nov. 19, 1979) pursuant to the Energy Policy and Conservation Act of 1975 (“EPCA”).¹ The Rule covers several categories of major household products, including televisions. It requires manufacturers of covered products to disclose specific energy consumption or efficiency information (derived from Department of Energy (“DOE”) test procedures) at the point-of-sale. In addition, each label must include a “range of comparability” indicating the highest and lowest energy consumption or efficiencies for comparable models. The Commission updates these ranges periodically.

¹ 42 U.S.C. 6294. EPCA also requires the Department of Energy (“DOE”) to set minimum efficiency standards and develop test procedures to measure energy use.

II. Range Updates for Televisions

The Commission amends its television ranges in section 305.17(f)(5) based on manufacturer data derived from the DOE test procedures and posted on the DOE Web site (https://www.regulations.doe.gov/ccms). Last year, the Commission issued changes to the television labeling requirements, including new reporting and testing provisions, to conform the FTC Rule to a new DOE test procedure (79 FR 19464 (April 9, 2014)). In that Notice, the Commission also discussed the possibility that it would revise the Rule's comparability ranges following the submission by manufacturers of new model data derived from the DOE test procedure.² The Commission now updates those ranges, along with related sample labels. In addition, these amendments update the cost figure on the television label to 12 cents per kWh consistent with other labeled products.³ Manufacturers have until July 15, 2015 to begin using the ranges on their labels.

² The Commission also discussed the potential for new ranges in a notice published last summer (79 FR 34642, 34656 n.108 (June 18, 2014)).

³ These amendments also make a minor, conforming change to the range categories in § 305.17 to reflect the scope of the DOE test procedure, which does not cover models with screen sizes smaller than 16 inches. See 79 FR at 19465 (Commission's discussion of this DOE change).

III. Administrative Procedure Act

The amendments published in this Notice are purely ministerial in nature and implement the Rule's requirement that representations for televisions be derived from DOE test procedures. See 16 CFR 305.5(d). Accordingly, the Commission has good cause under section 553(b)(B) of the APA to forgo notice-and comment procedures for these rule amendments. 5 U.S.C. 553(b)(B). These technical amendments merely provide a routine, conforming change to the range and cost information required on EnergyGuide labels. The Commission therefore finds for good cause that public comment for these technical, procedural amendments is impractical and unnecessary.

IV. Regulatory Flexibility Act

The provisions of the Regulatory Flexibility Act relating to a Regulatory Flexibility Act analysis (5 U.S.C. 603-604) are not applicable to this proceeding because the amendments do not impose any new obligations on entities regulated by the Energy Labeling Rule. These technical amendments merely provide a routine change to the range information required on EnergyGuide labels. Thus, the amendments will not have a “significant economic impact on a substantial number of small entities.” ⁴ The Commission has concluded, therefore, that a regulatory flexibility analysis is not necessary, and certifies, under Section 605 of the Regulatory Flexibility Act (5 U.S.C. 605(b)), that the amendments announced today will not have a significant economic impact on a substantial number of small entities.

⁴ 5 U.S.C. 605.

V. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through May 31, 2017 (OMB Control No. 3084 0069). The amendments now being adopted do not change the substance or frequency of the recordkeeping, disclosure, or reporting requirements and, therefore, do not require further OMB clearance.

List of Subjects in 16 CFR Part 305

Advertising, Energy conservation, Household appliances, Labeling, Reporting and recordkeeping requirements.

For the reasons set out above, the Commission amends 16 CFR part 305 as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

2. In § 305.17, revise paragraphs (f)(4) and (5) to read as follows:

§ 305.17 Television labeling.

* * * * *

(f) * * *

(4) Estimated annual energy costs determined in accordance with § 305.5 of this part and based on a usage rate of 5 hours in on mode and 19 hours in standby (sleep) mode per day and an electricity cost rate of 12 cents per kWh.

(5) The applicable ranges of comparability for estimated annual energy costs based on the labeled product's diagonal screen size, according to the following table:

Screen size (diagonal) | Annual energy cost ranges for televisions: Low | Annual energy cost ranges for televisions: High
16-20″ (16.0 to 20.49″) | $3 | $4
21-23″ (20.5 to 23.49″) | 4 | 5
24-29″ (23.5 to 29.49″) | 4 | 7
30-34″ (29.5 to 34.49″) | 6 | 13
35-39″ (34.5 to 39.49″) | 7 | 13
40-44″ (39.5 to 44.49″) | 5 | 21
45-49″ (44.5 to 49.49″) | 6 | 24
50-54″ (49.5 to 54.49″) | 8 | 34
55-59″ (54.5 to 59.49″) | 8 | 34
60-64″ (59.5 to 64.49″) | 12 | 48
65-69″ (64.5 to 69.49″) | 10 | 51
69.5″ or greater | 15 | 97

* * * * *

3. In appendix L, revise Prototype Labels 8, 9, and 10 and Sample Labels in 14, 15, and 16 to read as follows:

Appendix L to Part 305—Sample Labels

* * * * *

BILLING CODE 6750-01-P

* * * * *

* * * * *

By direction of the Commission.
Donald S. Clark
Secretary.

[FR Doc. 2015-07070 Filed 3-26-15; 8:45 am]

BILLING CODE 6750-01-C